NUCLEAR REGULATORY COMMISSION

[Docket No. 50-334]

FirstEnergy Nuclear Operating Company; Notice of Withdrawal of Application for Amendment to Facility Operating License

The U.S. Nuclear Regulatory Commission (the Commission) has granted the request of FirstEnergy Nuclear Operating Company (the licensee) to withdraw its June 24, 2003, application for proposed amendment to Facility Operating License No. DPR-66 for the Beaver Valley Power Station, Unit No. 1, located in Beaver County, Pennsylvania.

The proposed amendment would have revised the Technical Specifications to clarify the steam generator tube inspection definition and the steam generator tube repair criteria.

The Commission had previously issued a Notice of Consideration of Issuance of Amendment published in the Federal Register on August 5, 2003 (68 FR 46243). However, by letter dated February 9, 2004, the licensee withdrew the proposed change.

For further details with respect to this action, see the application for amendment dated June 24, 2003, and the licensee's letter dated February 9, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated in Rockville, Maryland, this 20th day of February, 2004.
For the Nuclear Regulatory Commission.
Timothy G. Colburn,
Senior Project Manager, Section 1, Project Directorate I, Division of Licensing Project Management, Office of Nuclear Reactor Regulation.

[FR Doc. E4-408 Filed 2-25-04; 8:45 am]

BILLING CODE 7590-01-P